DEPARTMENT OF TRANSPORTATION

Federal Aviation Administration

Sixth Meeting, Special Committee 213/EUROCAE WG 79: Enhanced Flight Vision Systems/Synthetic Vision Systems (EFVS/SVS)

AGENCY: Federal Aviation Administration (FAA), DOT.

ACTION: Notice of RTCA Special Committee 213/EUROCAE WG 79: Enhanced Flight Vision Systems/Synthetic Vision Systems (EFVS/SVS).

SUMMARY: The FAA is issuing this notice to advise the public of a meeting of RTCA Special Committee 213/EUROCAE WG 79: Enhanced Flight Vision Systems/Synthetic Vision Systems (EFVS/SVS).

DATES: The meeting will be held November 3-5, 2009. Sign-in: 8:30 a.m. on November 3, 2009. Meeting: 9 a.m.-5 p.m.

ADDRESSES: The meeting will be held at Dassault Aviation, 78 quai Marcel Dassault, 92214 Saint-Cloud, France, http://www.dassault-aviation.com.

SUPPLEMENTARY INFORMATION: Pursuant to section 10(a) (2) of the Federal Advisory Committee Act (Pub. L. 92-463, 5 U.S.C., Appendix 2), notice is hereby given for a Special Committee 213/EUROCAE WG 79: Enhanced Flight Vision Systems/Synthetic Vision Systems (EFVS/SVS) meeting. The agenda will include:

Tuesday, November

• Sign-in at 8:30 a.m.

• 9 a.m.-11:30 a.m.—Plenary (including break)

• Welcome, introductions, review agenda, minutes approval, and objectives

• Plenary work group updates, action item review

• Plenary briefings

• 1 p.m.-5 p.m.—Separate work group 1 and 2 discussions (including break)

Wednesday, November 4

• 9 a.m.-5 p.m.—Separate work group 1 and 2 discussions (including break)

Thursday, November 5

• 9 a.m.-5 p.m.—Plenary (including break)

• Agree on draft MASPS

• Review action items

• Review administrative items

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 23, 2009.
James H. Williams,
RTCA Advisory Committee.

[FR Doc. E9-23529 Filed 9-29-09; 8:45 am]

BILLING CODE 4910-13-P